DEPARTMENT OF DEFENSE

Office of Secretary

[Docket ID: DoD-2008-OS-0130]

Privacy Act of 1974; System of Records

AGENCY: National Security Agency/Central Security Service, DoD.

ACTION: Notice to amend system of records.

SUMMARY: The National Security Agency/Central Security Service is proposing to amend an exempt system of records to its existing inventory of record systems subject to the Privacy Act of 1974, (5 U.S.C. 552a), as amended.

DATES: This proposed action will be effective without further notice on November 24, 2008 unless comments are received which result in a contrary determination.

ADDRESSES: Send comments to the National Security Agency/Central Security Service, Office of Policy, 9800 Savage Road, Suite 6248, Ft. George G. Meade, MD 20755-6248.

FOR FURTHER INFORMATION CONTACT: Ms. Anne Hill at (301) 688-6527.

SUPPLEMENTARY INFORMATION: The National Security Agency's record system notices for records systems subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: October 15, 2008.
Patricia Toppings,
OSD Federal Register Liaison Officer, Department of Defense.

GNSA 04

System Name:

NSA/CSS Military Reserve Personnel Data Base (February 22, 1993, 58 FR 10531).

Changes:

* * * * *

System Name:

Delete entry and replace with “NSA/CSS Military Reserve Personnel Data”.

* * * * *

Categories of Records in the System:

Add at beginning of paragraph “Name, Social Security Number (SSN), address, phone number.”

Authority for Maintenance of the System:

Delete entry and replace with “10 U.S.C. Sections 115, 331-335; and Chapters 1002, 1005, 1007, and 1201-1805; DoD Directive 5100.20, National Security Agency and Central Security Service; DoD Instruction 3305.8, Management and Administration of the Joint Reserve Intelligence Program; NSA/CSS Policy 4-27, NSA/CSS Military Reserve Program Policy Manual and E.O. 9397 (SSN)”.

Routine Uses of Records Maintained in the System, Including Categories of Users and the Purposes of Such Uses:

Delete entry and replace with “In addition to those disclosures generally permitted under 5 U.S.C. 552a(b) of the Privacy Act, these records or information contained therein may specifically be disclosed outside the DoD as a routine use pursuant to 5 U.S.C. 552a(b)(3).

The DoD ‘Blanket Routine Uses’ published at the beginning of the NSA/CSS's compilation of record systems also apply to this record system”.

Storage:

Delete entry and replace with “Paper records in file folders and electronic storage media”.

Retrievability:

Delete entry and replace with “By name and Social Security Number (SSN)”.

Safeguards:

Delete entry and replace with “Buildings are secured by a series of guarded pedestrian gates and checkpoints. Access to facilities is limited to security-cleared personnel and escorted visitors only. Within the facilities themselves, access to paper and computer printouts are controlled by limited-access facilities and lockable containers. Access to electronic means is limited and controlled by computer password protection.”

Retention and Disposal:

Delete entry and replace with “Destroy upon separation of the individual from the Agency or the Reserve Program”.

System Manager(s) and Address:

Delete entry and replace with “NSA Reserve Forces Director, National Security Agency/Central Security Service, Ft. George Meade, MD 20755-6000”.

Notification Procedure:

Delete entry and replace with “Individuals seeking to determine whether information about themselves is contained in this system should address written inquiries to the National Security Agency/Central Security Service, Freedom of Information Act/Privacy Office, 9800 Savage Road, Ft. George G. Meade, MD 20755-6000.

Written inquiries should contain the individual's full name, Social Security Number (SSN) and mailing address.”

Record Access Procedures:

Delete entry and replace with “Individuals seeking access to information about themselves contained in this system should address written inquiries to the National Security Agency/Central Security Service, Freedom of Information Act/Privacy Office, 9800 Savage Road, Ft. George G. Meade, MD 20755-6000.

Written inquiries should contain the individual's full name, Social Security Number (SSN) and mailing address.”

Contesting Record Procedures:

Delete entry and replace with “The NSA/CSS rules for contesting contents and appealing initial determinations are published at 32 CFR part 322 or may be obtained by written request addressed to the National Security Agency/Central Security Service, Freedom of Information Act/Privacy Office, 9800 Savage Road, Ft. George G. Meade, MD 20755-6000”.

* * * * *

GNSA 04

System Name:

NSA/CSS Military Reserve Personnel Data.

System Location:

Primary location: National Security Agency/Central Security Service, Ft. George G. Meade, MD 20755-6000.

Decentralized segments: Each staff, line, field element and military service as authorized and appropriate.

Categories of Individuals Covered by the System:

Inactive duty military reserve personnel assigned to NSA mobilization billets, requesting to perform on-the-job training in NSA work centers, or scheduled to attend formal and resident courses of instruction under the auspices or sponsorship of NSA.

Categories of Records in the System:

Name, Social Security Number (SSN), address, phone number; correspondence, papers, and forms relating to individual's service extracted from his/her military personnel records including but not limited to military service, enlistment or related service agreement/extension/orders, active duty records; duty status, reserve status; qualifications for active military duty assignments; clearance data; applications/nominations for assignments; pictures; military check-in/out sheets; military skill specialty evaluation data; active duty training; service record brief, military personnel utilization survey; correspondence courses, educational/academic records; applications for I.D.; efficiency or fitness records; application/prior service enlistment documents; work experiences; professionalization documentation; achievement certificates, suggestions; personnel screening and evaluation records; acknowledgment of service requirements; temporary disability record; change of name; documents relating to promotion or non-selection, transfers, leave, pay entitlements, financial records, awards, health or medical records, reports of proceedings of physical fitness boards, birth certificates, citizenship statements and status; passport, questionnaire/records of security clearances, language capability, language proficiency questionnaire; flight records, aviator flight records, instrument certification papers; reduction in grade release, retirement, temporary duty, record of retirement points; correspondence and/or orders relating to dependents, service action, federal recognition orders, correspondence relating to badges, medals, and unit awards, including foreign decorations; correspondence/letters/administrative reprimands/ censures/admonitions relating to apprehensions/confinement and discipline.

Authority for Maintenance of the System:

10 U.S.C. Sections 115, 331-335; and Chapters 1002, 1005, 1007, and 1201-1805; DoD Directive 5100.20, National Security Agency and Central Security Service; DoD Instruction 3305.8, Management and Administration of the Joint Reserve Intelligence Program; NSA/CSS Policy 4-27, NSA/CSS Military Reserve Program Policy Manual and E.O. 9397 (SSN).

Purpose(s):

To maintain current and accurate listings of reserve personnel designated to mobilize with the National Security Agency, offered as nominees for NSA Mobilization billets, requesting formal and resident training courses, or seeking on-the-job training in NSA work centers. To determine professional and technical qualifications of reservists to analyze their training needs and to ascertain the eligibility of reservists for promotions, awards, special duty assignments, and similar reasons.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3).

The DoD ‘Blanket Routine Uses’ published at the beginning of the NSA/CSS's compilation of record systems also apply to this record system.

Policies and Practices for Storing, Retrieving, Accessing, Retaining, and Disposing of Records in the System:

Storage:

Paper records in file folders and electronic storage media.

Retrievability:

By name and Social Security Number (SSN).

Safeguards:

Buildings are secured by a series of guarded pedestrian gates and checkpoints. Access to facilities is limited to security-cleared personnel and escorted visitors only. Within the facilities themselves, access to paper and computer printouts are controlled by limited-access facilities and lockable containers. Access to electronic means is limited and controlled by computer password protection.

Retention and Disposal:

Destroy upon separation of the individual from the Agency or the Reserve Program.

System Manager(s) and Address:

NSA Reserve Forces Director, National Security Agency/Central Security Service, Ft. George Meade, MD 20755-6000.

Notification Procedure:

Individuals seeking to determine whether information about themselves is contained in this system should address written inquiries to the National Security Agency/Central Security Service, Freedom of Information Act/Privacy Office, 9800 Savage Road, Ft. George G. Meade, MD 20755-6000.

Written inquiries should contain the individual's full name, Social Security Number (SSN) and mailing address.

Record Access Procedures:

Individuals seeking access to information about themselves contained in this system should address written inquiries to the National Security Agency/Central Security Service, Freedom of Information Act/Privacy Office, 9800 Savage Road, Ft. George G. Meade, MD 20755-6000.

Written inquiries should contain the individual's full name, Social Security Number (SSN) and mailing address.

Contesting Record Procedures:

The NSA/CSS rules for contesting contents and appealing initial determinations are published at 32 CFR part 322 or may be obtained by written request addressed to the National Security Agency/Central Security Service, Freedom of Information Act/Privacy Office, 9800 Savage Road, Ft. George G. Meade, MD 20755-6000.

Record Source Categories:

Individual reservists and service reserve personnel files.

Exemptions Claimed for the System:

Individual records in this file may be exempt pursuant to 5 U.S.C. 552a(k)(1) and (k)(5), as applicable.

An exemption rule for this record system has been promulgated according to the requirements of 5 U.S.C. 553(b)(1), (2), and (3), (c) and (e) and published in 32 CFR part 322. For additional information contact the system manager.

[FR Doc. E8-25298 Filed 10-22-08; 8:45 am]

BILLING CODE 5001-06-P